DEPARTMENT OF COMMERCE

National Oceanic and Atmospheric Administration

[RTID 0648-XA471]

Marine Mammals; File No. 22629

AGENCY: National Marine Fisheries Service (NMFS), National Oceanic and Atmospheric Administration (NOAA), Commerce.

ACTION: Notice; issuance of permit.

SUMMARY: Notice is hereby given that a permit has been issued to Mystic Aquarium (Responsible Party: Stephen M. Coan, Ph.D.) to import five beluga whales (Delphinapterus leucas) for scientific research.

ADDRESSES: The permit and related documents are available online at https://www.fisheries.noaa.gov/action/permit-application-import-5-beluga-whales-scientific-research-file-no-22629-mystic-aquarium.

FOR FURTHER INFORMATION CONTACT: Amy Sloan (amy.sloan@noaa.gov), Courtney Smith (courtney.smith@noaa.gov), or Jennifer Skidmore (jennifer.skidmore@noaa.gov), (301) 427-8401.

SUPPLEMENTARY INFORMATION: On October 1, 2019, notice was published in the Federal Register (84 FR 52072) that a request for a permit to import five beluga whales for scientific research had been submitted by the above-named applicant. A public hearing on this action was held on November 18, 2019 (84 FR 58694). The requested permit has been issued under the authority of the Marine Mammal Protection Act of 1972, as amended (16 U.S.C. 1361 et seq.) and the regulations governing the taking and importing of marine mammals (50 CFR part 216).

The permit authorizes the importation of five captive-born beluga whales from Marineland of Canada (Niagara Falls, Ontario, Canada) to Mystic Aquarium (Mystic, Connecticut, United States).

The beluga whales were born at Marineland of Canada and NMFS considers one of the beluga whales to be a member of the depleted Sakhalin Bay-Nikolaya Bay-Amur River stock, because both parents are likely from the depleted stock. Four of the whales have mixed-stock parentage (i.e., one parent likely from the depleted stock and the other from a stock that has not been designated as depleted). For purposes of this permit application, NMFS has treated all five whales as depleted.

The purpose of the research is to contribute knowledge and inform management and recovery of beluga whale populations in the wild including the endangered Cook Inlet beluga whale distinct population segment and the depleted Sakhalin Bay-Nikolaya Bay-Amur River beluga whale stock. Research authorized includes the following Studies: (1) Neuroimmunological response to environmental and anthropogenic stressors; (2) Development of novel non-invasive techniques to assess health in free-ranging, stranded and endangered beluga whales; (3) Hearing and physiological response to anthropogenic sound; (4) Photogrammetry body condition studies; (5) Diving physiology; (6) Microbiome; and (8) Testing of prototype telemetry and imaging devices before deployment on wild beluga whales. The permit does not authorize Study 7 (Behavioral and reproduction studies) including breeding of any of the imported beluga whales but includes reproductive monitoring as part of husbandry activities. Mystic Aquarium must submit a plan to provide safe and effective contraception or other means to prevent breeding of the five subject beluga whales, for approval by the Office Director prior to importation.

Consistent with other research permits authorizing captive maintenance, the permit is conditioned to require approval by the Office Director for any transfer or transport of the imported whales, including any transport to the Georgia Aquarium, and disposition of the whales at the termination of research. Consistent with NMFS' regulations, public display is authorized incidental to the research. This incidental public display must not interfere with the research and must occur as part of an educational program describing the status of the species and its endangered and depleted stocks. The animals may not be used in public interactive programs or be trained for performance. Public demonstrations in which the whales perform trained husbandry, medical, research-related, and natural behaviors are authorized. The permit is valid through August 31, 2025.

An Environmental Assessment (EA) was prepared analyzing the effects of the permitted activities on the human environment in compliance with the National Environmental Policy Act of 1969 (42 U.S.C. 4321 et seq.).

Based on the analyses in the EA, NMFS determined that issuance of the permit would not significantly impact the quality of the human environment and that preparation of an environmental impact statement was not required. That determination is documented in a Finding of No Significant Impact (FONSI), signed on August 27, 2020.

Dated: September 8, 2020.
Julia Marie Harrison,
Chief, Permits and Conservation Division, Office of Protected Resources, National Marine Fisheries Service.

[FR Doc. 2020-20061 Filed 9-10-20; 8:45 am]

BILLING CODE 3510-22-P